DEPARTMENT OF HEALTH AND HUMAN SERVICES

National Institutes of Health

Center for Scientific Review; Amended Notice of Meeting

Notice is hereby given of a change in the meeting of the Center for Scientific Review Special Emphasis Panel, NIH Research Enhancement Award (R15) in Oncological Sciences, September 28, 2022, 9 a.m. to 6 p.m., National Institutes of Health, Rockledge II, 6701 Rockledge Drive, which was published in the Federal Register on August 11, 2022, 87 FR 49598, Doc 2022-17301.

This meeting is being amended to change the meeting start time from 9 a.m. to 10 a.m. The meeting is closed to the public.

Dated: August 18, 2022.
Victoria E. Townsend,
Program Analyst, Office of Federal Advisory Committee Policy.

[FR Doc. 2022-18159 Filed 8-22-22; 8:45 am]

BILLING CODE 4140-01-P